SECURITIES AND EXCHANGE COMMISSION

[Release No. 34-51190; File No. SR-NYSE-2005-06]

Self-Regulatory Organizations; New York Stock Exchange; Notice of Filing and Immediate Effectiveness of Proposed Rule Change To Increase Annual Fee to be Paid by Participants in the Medallion Guarantee Program

February 11, 2005.

Pursuant to Section 19(b)(1) of the Securities Exchange Act of 1934 (“Act”),¹ notice is hereby given that on January 7, 2005, the New York Stock Exchange (“NYSE”) filed with the Securities and Exchange Commission (“Commission”) the proposed rule change described in items I, II, and III below, which items have been prepared primarily by the NYSE. The Commission is publishing this notice to solicit comments on the proposed rule change from interested parties.

¹ 15 U.S.C. 78s(b)(1).

I. Self-Regulatory Organization's Statement of the Terms of Substance of the Proposed Rule Change

The purpose of the proposed rule change is to increase the application and annual charge to be paid by participants in the medallion signature guarantee program maintained by the NYSE from $300.00 per year to $1,000.00 per year.

II. Self-Regulatory Organization's Statement of the Purpose of, and Statutory Basis for, the Proposed Rule Change

In its filing with the Commission, the NYSE included statements concerning the purpose of and basis for the proposed rule change and discussed any comments it received on the proposed rule change. The text of these statements may be examined at the places specified in item IV below. The NYSE has prepared summaries, set forth in sections (A), (B), and (C) below, of the most significant aspects of these statements.²

² The Commission has modified the text of the summaries prepared by the NYSE.

(A) Self-Regulatory Organization's Statement of the Purpose of, and Statutory Basis for, the Proposed Rule Change

The purpose of the proposed rule is to change the application and annual charge to be paid by participants in the medallion signature program (“MSP”) maintained by the NYSE from $300.00 to $1000.00 per year. In 1992, the Commission approved NYSE's implementation of its signature guarantee program, now referred to as the MSP.³ At that time, the NYSE specified that participants in the MSP would bear the administrative expenses in connection with the program, which at that time was a charge of $300.00 to be paid upon filing an application to the program and annually thereafter. The $300.00 charge to participants in the MSP has remained unchanged since 1992.

³ Securities Exchange Act Release No. 31388 (October 30, 1992), 57 FR 53366 (November 9, 1992), [SR File No. NYSE-92-16] (order approving implementation of a signature guarantee program). The MSP is governed by NYSE Rule 200.

In recent years the administrative costs for the MSP have increased substantially. These increases relate not only to internal costs but also to the costs for liability insurance premiums for blanket insurance coverage under the program, and for an outside vendor to provide administrative assistance, and for a website for use by participants in the program. Effective January 2005, the charge to members participating in the MSP will increase to $1,000.00 and will be payable upon a participant's filing an application to the MSP and annually thereafter. The NYSE will bill MSP participants the increased fee for 2005 in January 2005.

The proposed rule change is consistent with the requirements of Section 6(b)(4) of the Act ⁴ and the rules and regulations thereunder applicable to the NYSE because it provides for equitable allocation of reasonable dues, fees, and other charges among its members, issuers, and other persons using its facilities.

⁴ 15 U.S.C. 78f(b)(4).

(B) Self-Regulatory Organization's Statement on Burden on Competition

The NYSE does not believe that the proposed rule change will impose any burden on competition that is not necessary or appropriate in furtherance of the purposes of the Act.

(C) Self-Regulatory Organization's Statement on Comments on the Proposed Rule Change Received From Members, Participants, or Others

No written comments relating to the proposed rule change have been solicited or received. The NYSE will notify the Commission of any written comments received by the NYSE.

III. Date of Effectiveness of the Proposed Rule Change and Timing for Commission Action

The foregoing rule change has become effective upon filing pursuant to Section 19(b)(3)(A)(ii) of the Act ⁵ and Rule 19b-4(f)(2)⁶ thereunder because the proposed rule is establishing or changing a due, fee, or other charge. At any time within sixty days of the filing of such rule change, the Commission may summarily abrogate such rule change if it appears to the Commission that such action is necessary or appropriate in the public interest, for the protection of investors, or otherwise in furtherance of the purposes of the Act.

⁵ 15 U.S.C. 78s(b)(3)(A)(ii).

⁶ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml) or

• Send an E-mail to rule-comments@sec.gov. Please include File Number SR-FICC-2005-04 on the subject line.

Paper Comments

• Send paper comments in triplicate to Jonathan G. Katz, Secretary, Securities and Exchange Commission, 450 Fifth Street, NW., Washington, DC 20549-0609.

All submissions should refer to File Number SR-NYSE-2005-06. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW., Washington, DC 20549. Copies of such filing also will be available for inspection and copying at the principal office of the NYSE and on the NYSE's Web site at http://www.nyse.com. All comments received will be posted without change; the Commission does not edit personal identifying information from submissions. You should submit only information that you wish to make available publicly. All submissions should refer to File Number SR-NYSE-2005-06 and should be submitted on or before March 16, 2005.

For the Commission by the Division of Market Regulation, pursuant to delegated authority.⁷
⁷ 17 CFR 200.30-3(a)(12).
Margaret H. McFarland,
Deputy Secretary.

[FR Doc. E5-735 Filed 2-22-05; 8:45 am]

BILLING CODE 8010-01-P